DEPARTMENT OF TRANSPORTATION

Federal Aviation Administration

14 CFR Part 39

[Docket No. FAA-2013-0212; Directorate Identifier 2012-NM-116-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-223F, -223, -321, -322, and -323 airplanes. This proposed AD was prompted by fatigue load analysis that determined that the inspection interval for certain pylon bolts must be reduced. This proposed AD would require a torque check of forward engine mount bolts, and replacement if necessary. We are proposing this AD to detect and correct loose or broken bolts, which could lead to engine detachment in-flight, and damage to the airplane.

DATES: We must receive comments on this proposed AD by May 13, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA 1601 Lind Avenue SW., Renton, WA 98057-3356; telephone (425) 227-1138; fax (425) 227-1149.

SUPPLEMENTARY INFORMATION:

Comments Invited

We invite you to send any written relevant data, views, or arguments about this proposed AD. Send your comments to an address listed under the ADDRESSES section. Include “Docket No. FAA-2013-0212; Directorate Identifier 2012-NM-116-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0094, dated May 31, 2012 (referred to after this as “the MCAI”), to correct an unsafe condition for the specified products. The MCAI states:

The forward mount engine pylon bolts, Part Number (P/N) 51U615, fitted on Airbus A330 aeroplanes with Pratt & Whitney (PW) PW4000 engines, are made from MP159 material.

The U.S. Federal Aviation Administration (FAA), as Engine Certification Authority, issued AD 2006-16-05 [Amendment 39-14705 (71 FR 44185, August 4, 2006)] to require (paragraph (g) of that AD) repetitive torque checks of MP159 material forward mount pylon bolts fitted on certain PW4000 series engines.

However, the engine mount system is considered to be part of aeroplane certification rather than the engine certification. Following further fatigue load analysis by Airbus of the A330 engine mount system, completed in February 2011 for both the freighter and passenger models of A330 aeroplanes, it was determined that MP159 material forward mount pylon bolts inspection interval must be reduced.

This condition, if not detected and corrected, could ultimately lead to engine detachment from the aeroplane, possibly resulting in damage to the aeroplane and/or injury to person on the ground.

For the reasons described above, this [EASA] AD requires accomplishment of repetitive torque checks of the forward mount pylon bolts installed on A330 aeroplanes powered by PW4000 engines and, depending on findings, the replacement of all four bolts and associated nuts.

Findings (discrepancies) include loose or broken bolts. You may obtain further information by examining the MCAI in the AD docket.

Relevant Service Information

Airbus has issued Mandatory Service Bulletin A330-71-3028, Revision 01, dated February 20, 2012. The actions described in this service information are intended to correct the unsafe condition identified in the MCAI.

Compliance With AD 2006-16-05, Amendment 39-14705 (71 FR 44185, August 4, 2006)

Doing the actions required by paragraph (g) of this AD constitutes compliance with the requirements specified in paragraph (g) of AD 2006-16-05, Amendment 39-14705 (71 FR 44185, August 4, 2006).

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 41 products of U.S. registry. We also estimate that it would take about 2 work-hours per product to comply with the basic requirements of this proposed AD. The average labor rate is $85 per work-hour. Based on these figures, we estimate the cost of the proposed AD on U.S. operators to be $6,970, or $170 per product.

In addition, we estimate that any necessary follow-on actions would take about 1 work-hour and require parts costing $6,747, for a cost of $6,832 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0212; Directorate Identifier 2012-NM-116-AD.

(a) Comments Due Date

We must receive comments by May 13, 2013.

(b) Affected ADs

This AD affects AD 2006-16-05, Amendment 39-14705 (71 FR 44185, August 4, 2006).

(c) Applicability

This AD applies to Airbus Model A330-223F, -223, -321, -322, and -323 airplanes, certificated in any category, all manufacturer serial numbers.

(d) Subject

Air Transport Association (ATA) of America Code 71, Powerplant.

(e) Reason

This AD was prompted by fatigue load analysis that determined that certain pylon bolts inspection interval must be reduced. We are issuing this AD to detect and correct loose or broken bolts, which could lead to engine detachment in-flight, and damage to the airplane.

(f) Compliance

You are responsible for having the actions required by this AD performed within the compliance times specified, unless the actions have already been done.

(g) Torque Check and Replacement

(1) Within the compliance times specified in table 1, table 2, or table 3 to paragraph (g) of this AD, as applicable to airplane model and utilization, do a torque check to determine if there are any loose or broken forward engine mount bolts (4 positions/engine) on both engines, and repeat that torque check at intervals not to exceed the values defined in table 1, table 2, or table 3 to paragraph (g) of this AD, in accordance with the Accomplishment Instructions of Airbus Mandatory Service Bulletin A330-71-3028, Revision 01, dated February 20, 2012. For the purposes of table 1 and table 2 to paragraph (g) of this AD, the average flight time (AFT) is defined as a computation of the number of flight hours divided by the number of flight cycles accumulated since last torque check or since the airplane's first flight, as applicable.

Table 1 to Paragraph (g) of This AD: For Model A330-223, -321, -322 and -323 Airplanes With AFT More Than 132 Minutes
Flight cycles accumulated on the effective date of this AD since last torque check performed as specified in Pratt & Whitney Alert Service Bulletin PW4G-100-A71-32; or since airplane first flight, as applicable | Compliance time | Torque check interval (not to exceed)
0-1,850 | Within 2,350 flight cycles since the last torque check as specified in Pratt & Whitney Alert Service Bulletin PW4G-100-A71-32, or since airplane first flight, as applicable | 2,350 flight cycles or 24,320 flight hours, whichever occurs first.
1,851-2,700 | Within 500 flight cycles after the effective date of this AD without exceeding 2,700 flight cycles since last torque check as specified in Pratt & Whitney Alert Service Bulletin PW4G-100-A71-32, or since airplane first flight, as applicable; or within 3 months after the effective date of this AD; whichever occurs later | 2,350 flight cycles or 24,320 flight hours, whichever occurs first.

Table 2 to Paragraph (g) of This AD: For Model A330-321, -322, and -323 Airplanes With AFT Equal or Less Than 132 Minutes; and for Model A330-321, -322, and -323 Airplanes on Which the AFT Is Not Calculated on a Regular Basis
Flight cycles accumulated on the effective date of this AD since last torque check as performed as specified in Pratt & Whitney Alert Service Bulletin PW4G-100-A71-32; or since airplane first flight, as applicable | Compliance time | Torque check interval (not to exceed)
0-1,450 | Within 1,950 flight cycles since the last torque check performed as specified in Pratt & Whitney Alert Service Bulletin PW4G-100-A71-32, or since airplane first flight, as applicable | 1,950 flight cycles or 20,210 flight hours, whichever occurs first.
1,451-2,700 | Within 500 flight cycles after the effective date of this AD without exceeding 2,700 flight cycles since last torque check performed as specified in Pratt & Whitney Alert Service Bulletin PW4G-100-A71-32, or since airplane first flight, as applicable; or within 3 months after the effective date of this AD; whichever occurs later | 1,950 flight cycles or 20,210 flight hours, whichever occurs first.

Table 3 to Paragraph (g) of This AD: For Model A330-223F Airplanes
Compliance time | Torque check interval (not to exceed)
Within 2,140 flight cycles or 6,600 flight hours, whichever occurs first since the last torque check performed as specified in Pratt & Whitney Alert Service Bulletin PW4G-100-A71-32, or since airplane first flight, as applicable | 2,140 flight cycles or 6,600 flight hours, whichever occurs first.

(2) If any loose or broken bolt is detected during the check required by paragraph (g)(1) of this AD, before further flight, replace all four forward engine mount bolts and associated nuts, on the engine where the loose or broken bolt was detected, with new bolts and nuts, in accordance with the Accomplishment Instructions of Airbus Mandatory Service Bulletin A330-71-3028, Revision 01, dated February 20, 2012.

(3) Replacement of bolts and nuts as required by paragraph (g)(2) of this AD is not terminating action for the repetitive torque checks required by paragraph (g)(1) of this AD.

(h) Compliance with AD 2006-16-05, Amendment 39-14705 (71 FR 44185, August 4, 2006)

Doing the actions required by paragraph (g) of this AD constitutes compliance with the requirements specified in paragraph (g) of AD 2006-16-05, Amendment 39-14705 (71 FR 44185, August 4, 2006).

(i) Parts Installation Prohibition

As of the effective date of this AD, no person may install any INCO718 material, forward mount pylon bolt having Pratt & Whitney P/N 54T670 on any airplane.

(j) Credit for Previous Actions

This paragraph provides credit for the actions required by paragraphs (g)(1) and (g)(2) of this AD, if those actions were performed before the effective date of this AD using Airbus Mandatory Service Bulletin A330-71-3028, dated December 16, 2011, which is not incorporated by reference in this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to MCAI European Aviation Safety Agency Airworthiness Directive 2012-0094, dated May 31, 2012; and Airbus Mandatory Service Bulletin A330-71-3028, Revision 01, dated February 20, 2012.

(2) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Issued in Renton, Washington, on March 20, 2013.
Jeffrey E. Duven,
Acting Manager, Transport Airplane Directorate, Aircraft Certification Service.

[FR Doc. 2013-07203 Filed 3-27-13; 8:45 am]

BILLING CODE 4910-13-P